DEPARTMENT OF THE INTERIOR

Bureau of Land Management

[LLNV952000 L12100000.PH0000.241A; MO #4500148094 TAS: 18X]

Filing of Plats of Survey; Nevada

AGENCY: Bureau of Land Management, Interior.

ACTION: Notice.

SUMMARY: The purpose of this notice is to inform the public and interested State and local government officials of the filing of Plats of Survey in Nevada.

DATES: Filing is applicable at 10:00 a.m. on the dates indicated below.

FOR FURTHER INFORMATION CONTACT: Michael O. Harmening, Chief Cadastral Surveyor for Nevada, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described lands was officially filed at the Bureau of Land Management (BLM) Nevada State Office, Reno, Nevada, on September 15, 2020.

The plat, in one sheet, representing the dependent resurvey of a portion of the east boundary, a portion of the subdivisional lines and a portion of Homestead Entry Survey No. 68, and the subdivision of sections 13 and 24, and a metes-and-bounds survey of a portion of the easterly right-of-way line of Nevada State Route No. 225, Township 45 North, Range 53 East, Mount Diablo Meridian, Nevada, under Group No. 982, was accepted September 10, 2020. This survey was executed to meet certain administrative needs of the Bureau of Land Management, the United States Forest Service, and the Bureau of Indian Affairs.

2. The Plat of Survey of the following described lands was officially filed at the Bureau of Land Management (BLM) Nevada State Office, Reno, Nevada, on September 17, 2020.

The plat, in one sheet, representing the dependent resurvey of portions of the subdivision-of-section lines of section 7 and a portion of the metes-and-bounds survey in section 7, and the further subdivision of section 7, and metes-and-bounds surveys in section 7, Township 15 South, Range 66 East, Mount Diablo Meridian, Nevada, under Group No. 977, was accepted September 15, 2020. This survey was executed to meet certain administrative needs of the Bureau of Land Management.

3. The Plat of Survey of the following described lands will be officially filed at the Bureau of Land Management (BLM) Nevada State Office, Reno, Nevada, on the first business day after thirty (30) days from the publication of this notice.

The plat, in three sheets, representing the dependent resurvey of portions of the south and east boundaries and a portion of the subdivisional lines, and a metes-and-bounds survey of the easterly right-of-way line of U.S. Highway No. 95, through sections 23, 25, 26, and 36, Township 17 South, Range 58 East, Mount Diablo Meridian, Nevada, under Group No. 945, was accepted August 10, 2020. This survey was executed to meet certain administrative needs of the Bureau of Land Management and the National Park Service.

4. The Plat of Survey of the following described lands will be officially filed at the Bureau of Land Management (BLM) Nevada State Office, Reno, Nevada, on the first business day after thirty (30) days from the publication of this notice.

The plat, in one sheet, representing the dependent resurvey of a portion of the south boundary and a portion of the subdivisional lines, and a metes-and-bounds survey of the easterly right-of-way line of U.S. Highway No. 95, through section 31, Township 17 South, Range 59 East, Mount Diablo Meridian, Nevada, under Group No. 945, was accepted August 10, 2020. This survey was executed to meet certain administrative needs of the Bureau of Land Management and the National Park Service.

5. The Plat of Survey of the following described lands will be officially filed at the Bureau of Land Management (BLM) Nevada State Office, Reno, Nevada, on the first business day after thirty (30) days from the publication of this notice.

The plat, in twelve (12) sheets, representing the dependent resurvey of a portion of the west boundary and a portion of the subdivisional lines, and the subdivision of certain sections, a metes-and-bounds survey of the easterly right-of-way line of U.S. Highway No. 95, through sections 6 and 7, and a portion of section 8, and a metes-and-bounds survey of the Red Rock Canyon National Conservation Area boundary through a portion of section 7 and through sections 8, 16, 17, and 21, Township 18 South, Range 59 East, Mount Diablo Meridian, Nevada, under Group No. 945, was accepted August 10, 2020. This survey was executed to meet certain administrative needs of the Bureau of Land Management and the National Park Service.

6. The Plat of Survey of the following described lands will be officially filed at the Bureau of Land Management (BLM) Nevada State Office, Reno, Nevada, on the first business day after thirty (30) days from the publication of this notice.

The plat, in two sheets, representing the dependent resurvey of a portion of Homestead Entry Survey No. 167, and the survey of a portion of the south boundary and a portion of the subdivisional lines, and the subdivision of sections 18 and 19, Township 45 North, Range 54 East, Mount Diablo Meridian, Nevada, under Group No. 984, was accepted September 10, 2020. This survey was executed to meet certain administrative needs of the Bureau of Land Management, the United States Forest Service, and the Bureau of Indian Affairs.

7. The Plat of Survey of the following described lands will be officially filed at the Bureau of Land Management (BLM) Nevada State Office, Reno, Nevada, on the first business day after thirty (30) days from the publication of this notice.

The plat, in one sheet, representing the dependent resurvey of a portion of the south boundary, a portion of the subdivisional lines and portions of the subdivision-of-section lines of section 32, and the further subdivision of section 32, Township 18 South, Range 60 East, Mount Diablo Meridian, Nevada, under Group No. 994, was accepted September 15, 2020. This survey was executed to meet certain administrative needs of the Bureau of Land Management.

The surveys, listed above, are now the basic record for describing the lands for all authorized purposes. These records have been placed in the open files in the BLM Nevada State Office and are available to the public as a matter of information.

Authority: 43 U.S.C. Chapter 3.

Dated: September 17, 2020.
Michael O. Harmening,
Chief Cadastral Surveyor for Nevada.

[FR Doc. 2020-21140 Filed 9-24-20; 8:45 am]

BILLING CODE 4310-HC-P